DEPARTMENT OF HEALTH AND HUMAN SERVICES

Centers for Medicare & Medicaid Services

[CMS-1597-N2]

Medicare Program; Changes to the Semi-Annual Meeting of the Advisory Panel on Hospital Outpatient Payment (HOP Panel)—March 11 and March 12, 2013

AGENCY: Centers for Medicare & Medicaid Services (CMS), HHS.

ACTION: Notice of meeting date and time, location, and format change.

SUMMARY: This notice announces changes to the meeting date and time, location, and format of the first semi-annual public meeting of 2013 that was announced and published in the Federal Register on November 26, 2012, entitled “Medicare Program; Semi-Annual Meeting of the Advisory Panel on Hospital Outpatient Payment (HOP Panel)—March 11 and 12, 2013.”

DATES: Monday, March 11, 2013, from 1 p.m. to 5 p.m. Eastern Daylight Time (EDT).

FOR FURTHER INFORMATION CONTACT: Chuck Braver, (410) 786-3985.

SUPPLEMENTARY INFORMATION:

I. Background

On November 26, 2012, we published a notice in the Federal Register (77 FR 70447) announcing the first semi-annual meeting of the Advisory Panel on Hospital Outpatient Payment (HOP, the Panel) for 2013. We note that the November 26, 2012 notice provides specific information on the purpose of the meeting and the agenda. This information remains the same and has not changed with the exception of the meeting date and time, location, and format as specified in this notice. We refer readers to that previously published notice for general information.

II. Provisions of the Notice

The November 26, 2012, notice announced an in-person meeting to be held over two days, March 11 through 12, 2013. Since the publication of that notice, the date and time, location, and format of the Panel meeting has changed. Therefore, we are publishing this notice to provide the public with the necessary information related to this upcoming public Panel meeting.

First, the November 26, 2012, notice included the published date of the Panel meeting as Monday, March 11, 2013, from 1 p.m. to 5 p.m. EDT and Tuesday, March 12, 2013, from 9 a.m. to 5 p.m. EDT. The Panel meeting date and time has been changed and will only take place on March 11, 2013, from 1 p.m. to 5 p.m. EDT.

Second, the November 26, 2012 notice included, the published meeting location as the CMS Central Office Auditorium, 7500 Security Boulevard, Woodlawn, Maryland 21244-1850. The Panel meeting format has been changed to Teleconference, Webcast, and Webinar. Therefore, there will no longer be an in-person meeting location for this public Panel meeting. Participants should view the CMS Web site at: http://cms.hhs.gov/Regulations-and-Guidance/Guidance/FACA/AdvisoryPanelonAmbulatoryPaymentClassificationGroups.html for the most current details regarding the meeting.

Participants who have registered to attend the in-person meeting based on the November 26, 2012 notice do not have to re-register. The teleconference dial-in instructions, and related webcast and webinar details will be posted on the CMS Web site approximately 1 week prior to the meeting at: http://cms.hhs.gov/Regulations-and-Guidance/Guidance/FACA/AdvisoryPanelonAmbulatoryPaymentClassificationGroups.html. Interested participants who did not register will be able to access the teleconference, webcast, and webinar by following the instructions on the above CMS Web site.

III. Collection of Information Requirements

This document does not impose information collection and recordkeeping requirements. Consequently, it need not be reviewed by the Office of Management and Budget under the authority of the Paperwork Reduction Act of 1995 (44 U.S.C. 35).

(Catalog of Federal Domestic Assistance Program; No. 93.773 Medicare—Hospital Insurance Program; and No. 93.774, Medicare—Supplementary Medical Insurance Program)

Dated: February 20, 2012.
Marilyn Tavenner,
Acting Administrator, Centers for Medicare & Medicaid Services.

[FR Doc. 2013-04524 Filed 2-22-13; 4:15 pm]

BILLING CODE 4120-01-P